DEPARTMENT OF TRANSPORTATION

Pipeline and Hazardous Materials Safety Administration

Hazardous Materials: Notice of Applications for Modification to Special Permits

AGENCY: Pipeline and Hazardous Materials Safety Administration (PHMSA), DOT.

ACTION: List of applications for modification of special permits.

SUMMARY: In accordance with the procedures governing the application for, and the processing of, special permits from the Department of Transportation's Hazardous Material Regulations, notice is hereby given that the Office of Hazardous Materials Safety has received the application described herein.

DATES: Comments must be received on or before October 15, 2025.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Each mode of transportation for which a particular special permit is requested is indicated by a number in the “Nature of Application” portion of the table below as follows: (1) Motor vehicle, (2) Rail freight, (3) Cargo vessel, (4) Cargo aircraft only, (5) Passenger-carrying aircraft.

Copies of the applications are available for inspection in the Records Center, East Building, PHH-13, 1200 New Jersey Avenue Southeast, Washington, DC or at http://regulations.gov.

This notice of receipt of applications for special permit is published in accordance with part 107 of the Federal hazardous materials transportation law (49 U.S.C. 5117(b); 49 CFR 1.53(b)).

Issued in Washington, DC, on September 26, 2025.
Donald P. Burger,
Chief, General Approvals and Permits Branch.

Special Permits Data
Application No. | Applicant | Regulation(s) affected | Nature of the special permits thereof
13546-M | Catexel Nease LLC | 172.602(c)(1), 172.604(a)(3), 177.817, 177.823(a) | To modify the special permit to authorize cargo tanks with each having a capacity not exceeding 7,000 gallons. (mode 1).
14201-M | National Air Cargo Group, Inc. | 172.101(j)(1), 172.204(c)(3), 173.27(b)(2), 173.27(b)(3), 175.30(a)(1) | To modify the special permit to add an additional hazardous material. (mode 4).
14649-M | Olin Winchester LLC | 172.101(i)(3), 172.300(a), 172.300(b), 172.300(c), 172.400(a), 173.62(c) | To modify the special permit to authorize an additional material, remove transport location limitations, and add alternative packaging options. (mode 1).
20851-M | Call2Recycle, Inc | 172.447 | To modify the special permit to add relief from the labeling requirement in Part 172 of the HMR. packages. (modes 1, 2).
21414-M | Zero Motorcycles Inc | 172.101(j), 173.185(b)(5) | To modify the special permit to authorize additional batteries. (modes 1, 2, 4).
21433-M | Pyrotek Special Effects Rock Lititz Inc | 172.301(c), 173.24(f)(2), 173.306(k) | To modify the special permit to increase the number of packages authorized to be transported in non-exclusive use and to authorize a QR code to be marked on the package instead of requiring a copy of the special permit to be carried aboard each motor vehicle. (mode 1).
21729-M | SodaStream USA, Inc | 172.315(a)(2), 173.306(a)(1) | To modify the special permit to authorize the use of a reduced size limited quantity marking. (modes 1, 2, 3).
21840-M | Lunar Energy, Inc | 172.101(j) | To modify the special permit to authorize an additional battery type. (mode 4).
22059-M | The Boeing Company | 173.219(c)(5) | To modify the special permit to no longer require the airplane seating assemblies to be wrapped in plastic during transportation. (mode 1).

[FR Doc. 2025-19038 Filed 9-29-25; 8:45 am]

BILLING CODE 4910-60-P